DEPARTMENT OF TRANSPORTATION

Federal Aviation Administration

[Docket No. 28895]

Airport Privatization Pilot Program

AGENCY: Federal Aviation Administration (FAA), (DOT.

ACTION: Notice of Receipt of Final Application of Niagara Falls International Airport, Niagara Falls, New York; Request for Comments.

SUMMARY: The Federal Aviation Administration (FAA) is seeking information and comments from interested parties on the final application by the Niagara Frontier Transportation Authority (NFTA) for participation of Niagara Falls International Airport (IAG) in the airport privatization pilot program. The final application is accepted for review.

Title 49 U.S.C. Section 47134 establishes an airport privatization pilot program and authorizes the Department of Transportation to grant exemptions from certain Federal statutory and regulatory requirements for up to five airport privatization projects. The application procedures require the FAA to publish a notice of receipt of the final application in the Federal Register and accept public comment on the final application for a period of 60 days.

DATES: Comments must be received by May 4, 2001. Comments that are received after the date will be considered only to the extend possible.

ADDRESSES: The IAG final application is available for public review in the Federal Aviation Administration, Office of Chief Counsel, Attention: Rules Docket (AGC-200), Docket No. 28895, 800 Independence Avenue, SW., Washington, DC 20591. NFTA, the airport sponsor, has also made a copy of the application available at the following locations:

Buffalo & Erie County Public Library, 1 Lafayette Square, Buffalo, New York 14202, (716) 858-8900

Niagara Frontier Transportation Authority, 181 Ellicott Street, Buffalo, New York, 14203 Attn: Ruth Keating, (716) 855-7398

Earl W. Brydges Public Library, 1425 Main Street, Niagara Falls, New York 14305, (716) 286-4881

Niagara Falls International Airport, Niagara Falls Boulevard, Niagara Falls, New York 14304, (716) 297-4494

Comments on the IAG final application must be delivered or mailed, in quadruplicate, to: the Federal Aviation Administration, Office of Chief Counsel, Attention: Rules Docket (AGC-200), Docket No. #28895, 800 Independence Avenue, SW., Washingotn, DC 20591. All comments must be marked “Docket No. 28895”. Commenters wishing the FAA to acknowledge receipt of their comments must include a preaddressed, stamped postcard on which the following statement is made: “Comments to Docket No. 28895.” The postcard will be date stamped and mailed to the commenter. Comments on this Notice may be delivered or examined in room 915G on weekdays, except Federal holidays, between 8:30 a.m. and 5:00 p.m.

FOR FURTHER INFORMATION CONTACT: Kevin C. Willis, Compliance Specialist (AAS-400), (202-267-8741) Airport Compliance Division, Office of Airport Safety and Standards, Federal Aviation Administration, 800 Independence Ave. SW., Washington, DC 29591.

SUPPLEMENTARY INFORMATION: Section 149 of the Federal Aviation Administration Authorization Act of 1996, Pub. L. No. 104-264 (October 9, 1996) (1996 Reauthorization Act), added a new 47134 to Title 49 of the U.S. Code. Section 47134 authorizes the Secretary of Transportation, and through delegation, the FAA Administrator, to exempt a sponsor of a public use airport that has received Federal assistance from certain Federal requirements in connection with the privatization of the airport by sale or lease to a private party. Specifically, the Administrator may exempt the sponsor from all or part of the requirements to use airport revenues for airport-related purposes (upon approval of 65 percent of the air carriers serving the airport and having 65 percent of the landed weight), to pay back a portion of Federal grants Government upon transfer of the airport. Since, Niagara Falls International Airport is a general aviation airport without air carrier service; the 65 percent approval of air carriers is not required. The Administrator is also authorized to exempt the private purchaser or lessee from the requirement to use all airport revenues for airport-related purposes, to the extent necessary to permit the purchaser or lessee to earn compensation from the operations of the airport.

On September 16, 1997, the FAA issued a notice of procedures to be used in applications for exemption under Airport Privatization Pilot Program (62 FR 48693). The notice of procedures and public comments received are available for review in FAA Rules Docket No. 28895.

On June 5, 2000, NFTA filed a final application and selected Cintra Niagara Falls Airport Corporation, USA, as the airport's private operator. Cintra Niagara proposes to lease the airport under a 99-year lease agreement. It plans to market the airport to develop new services such as low cost domestic passenger flights to business and leisure centers, international charter and cargo services. Cintra Niagara will commit $10.1 million in the initial 13 years for the purposes of operating, managing and developing the airport. $1.125 million will be used for operating, marketing and capital improvements costs. The remaining $8.975 million will be used for marketing expenses and to fund the initial five year capital planning period.

Cintra Niagara will receive an operating subsidy of $2.475 million from the NFTA for the first three years ($900,000, year 1; $900,000, year 2; $675,000, year 3). The operating subsidy will end after year 3. Cintra Niagara will pay a rental to the NFTA equivalent to $2.00 per passenger for each eligible passenger in excess of 450,000 total annual passengers at the Airport. Cintra Niagara forecasts that rental payments will begin in calendar year 2007.

On August 11, 2000, in an effort to clarify certain parts of the application, FAA staff requested responses to 21 questions from the NFTA and Cintra Niagara, the private operator. Copies of the 21 questions, the answers submitted by the NFTA, and the draft lease are available for public view and comment included as an attachment to the sponsor's application for public review.

The FAA has determined that the application is substantially complete. As part of its review of the IAG final application, the FAA will consider all comments and information submitted by interested parties during the 60-day comment period for this notice.

Issued in Washington, DC on February 21, 2001.
David L. Bennett,
Director, Airport Safety and Standards.

[FR Doc. 01-5268 Filed 3-2-01; 8:45 am]

BILLING CODE 4910-13-M